DEPARTMENT OF THE INTERIOR

Fish and Wildlife Service

[Docket No. FWS-HQ-IA-2017-0095; FXIA16710900000-178-FF09A30000]

Endangered Species Receipt of Permit Applications

AGENCY: Fish and Wildlife Service, Interior.

ACTION: Notice of receipt of permit applications.

SUMMARY: We, the U.S. Fish and Wildlife Service, invite the public to comment on applications to conduct certain activities with foreign endangered species, marine mammals, or both. With some exceptions, the Endangered Species Act (ESA) prohibit activities with listed species unless Federal authorization is acquired that allows such activities. The ESA also requires that we invite public comment before issuing these permits.

DATES: We must receive comments by February 5, 2018.

ADDRESSES: Document availability: The applications, as well as any comments and other materials that we receive, will be available for public inspection online in Docket No. FWS-HQ-IA-2017-0095 at http://www.regulations.gov.

Submitting Comments: You may submit comments by one of the following methods:

• Federal eRulemaking Portal: http://www.regulations.gov. Follow the instructions for submitting comments on Docket No. FWS-HQ-IA-2017-0095.

• U.S. mail or hand-delivery: Public Comments Processing, Attn: Docket No. FWS-HQ-IA-2017-0095; U.S. Fish and Wildlife Service Headquarters, MS: BPHC; 5275 Leesburg Pike, Falls Church, VA 22041-3803.

When submitting comments, please indicate the name of the applicant and the PRT# at the beginning of your comment. We will post all comments on http://www.regulations.gov. This generally means that we will post any personal information you provide us (see SUPPLEMENTARY INFORMATION for more information).

FOR FURTHER INFORMATION CONTACT: Joyce Russell, 703-358-2280.

SUPPLEMENTARY INFORMATION:

I. Public Comment Procedures

A. How do I comment on submitted applications?

You may submit your comments and materials by one of the methods listed under Submitting Comments in the ADDRESSES section. We will not consider comments sent by email or fax, or to an address not in the ADDRESSES section.

Please make your requests or comments as specific as possible, confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES or comments delivered to an address other than those listed above in ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

To help us carry out our conservation responsibilities for affected species, and in consideration of section 10(a)(1)(A) of the Endangered Species Act of 1973, as amended (16 U.S.C. 1531 et seq.; ESA, we invite public comment on these permit applications before final action is taken.

III. Permit Applications

We invite the public to comment on applications to conduct certain activities with endangered species. With some exceptions, the ESA prohibits activities with listed species unless Federal authorization is acquired that allows such activities.

Applicant: Lacy James Harber, Denison, TX; PRT-31792C

The applicant requests a permit to import the sport-hunted trophy of one male black rhinoceros (Diceros bicornis) from Namibia for the purpose of enhancing the propagation or survival of the species. This notification covers a single import conducted by the applicant.

Applicant: Miami-Dade Zoological Park and Gardens, Miami, FL; PRT-42528C

The applicant requests a permit to export one captive-born giant otter (Pteronura brasiliensis) to Emperor Valley Zoo, Trinidad and Tobago, to enhance the propagation or survival of the species. This notification is for a single export.

Applicant: Federico Zannini, Royal Oak, MI; PRT-58261C

The applicant requests a captive-bred wildlife registration under 50 CFR 17.21(g) for radiated tortoise (Astrochelys radiata) to enhance propagation or survival of the species. This notification covers activities to be conducted by the applicant over a 5-year period.

Applicant: Zoological Society of San Diego, San Diego, CA; PRT-57017C

The applicant requests a permit to import one Asian elephant (Elephas maximus) from the Melbourne Zoo, Australia, to enhance the propagation of the species. This notification is for a single import.

Applicant: Saint Louis Zoo, Saint Louis, MO; PRT-62698C

The applicant requests a permit to import blood and swab samples from Galapagos tortoises from three locations in the Galapagos Islands, Ecuador, for scientific research. This notification covers activities to be conducted by the applicant over a 3-year period.

Applicant: Lolo Kwong, Temple City, CA; PRT-60612C

The applicant requests a captive-bred wildlife registration under 50 CFR 17.21(g) for the radiated tortoise (Astrochelys radiata) to enhance species propagation or survival. This notification covers activities to be conducted by the applicant over a 5-year period.

Applicant: Zoological Society of Cincinnati, Cincinnati, OH; PRT-681252

The applicant requests renewal of a captive-bred wildlife registration under 50 CFR 17.21(g) for the following species to enhance species propagation or survival: Cheetah (Acinonyx jubatus), blue-throated macaw (Ara glaucogularis), Aye-aye (Daubentonia madagascariensis), eastern black rhinoceros (Diceros bicornis michaeli), southern rockhopper penguin (Eudyptes chrysocome), black-footed cat (Felis nigripes), gorilla (Gorilla gorilla), red-crowned crane (Japanese or Manchurian crane) (Grus japonensis), white-handed gibbon (Lar gibbon) (Hylobates lar), ring-tailed lemur (Lemur catta), Brazilian ocelot (Leopardus pardalis mitis), Bali myna (Rothschild's starling) (Leucopsar rothschildi), African painted dog (Lycaon pictus), Japanese macaque (snow monkey) (Macaca fuscata fuscata), clouded leopard (Neofelis nebulosa), pygmy loris (Nycticebus pygmaeus), bonobo (pygmy chimpanzee) (Pan paniscus), African lion (Panthera leo melanochaita), Malayan tiger (Panthera tigris jacksoni), Sumatran orangutan (Pongo abelii), Coquerel's Sifaka (Propithecus coquereli), Indian rhinoceros (greater one-horned rhinoceros) (Rhinoceros unicornis), African penguin (Black-footed penguin) (Spheniscus demersus), Siamang (Symphalangus syndactylus), snow leopard (Panthera uncia), and Andean condor (Vultur gryphus). This notification covers activities to be conducted by the applicant over a 5-year period.

Museum Applicants:

Smithsonian Institution/National Museum of Natural History, Washington, DC; PRT-125284

The applicant requests the renewal of their permit to export and reimport nonliving museum specimens of endangered and threatened species previously accessioned into the applicant's collection for scientific research. This notification covers activities to be conducted by the applicant over a 5-year period.

Northeastern University/Ocean Genome Legacy Center, Nahant, MA; PRT-58260C

The applicant requests a permit to export and reimport nonliving museum specimens of endangered and threatened species previously accessioned into the applicant's collection for scientific research. This notification covers activities to be conducted by the applicant over a 5-year period.

Trophy applicants:

Each applicant requests a permit to import a sport-hunted trophy of one male bontebok (Damaliscus pygargus pygargus) culled from a captive herd maintained under the management program of the Republic of South Africa, for the purpose of enhancing the propagation or survival of the species.

Applicant: Ronald E. Rhodes, Columbus, TX; PRT-61783C

Applicant: Daniel J. Nordin, Elm Grove, WI; PRT-58895C

Applicant: Donald E. Southorn, Wyoming, MI; PRT-59677C

Applicant: Jacob A. Ankele, Rapid City, SD; PRT-58530C

Applicant: Jason Thomas Parsons, Birmingham, AL; PRT-58231C

Applicant: Christian A. Fast, Prairieville, LA; PRT-59019C

Applicant: Ray A. Potts, Wisdom, MT; PRT-62604C

Applicant: Dana L. Johnston, Washington, PA; PRT-58226C

Applicant: Milak Pomares, Miami, FL; PRT-58906C

Applicant: Edwin J. Whitney; San Antonio, TX; PRT-60580C

Applicant: Jerry E. Copeland Salado, TX; PRT-53908C

IV. Next Steps

If the Service decides to issue permits to any of the applicants listed in this notice, we will publish a notice in the Federal Register. You may locate the Federal Register notice announcing the permit issuance date by searching in www.regulations.gov under the permit number listed in this document (e.g., PRT-12345c).

V. Authority

Endangered Species Act of 1973 (16 U.S.C. 1531 et seq.).

Joyce Russell,
Government Information Specialist, Branch of Permits, Division of Management Authority.

[FR Doc. 2017-28498 Filed 1-3-18; 8:45 am]

BILLING CODE 4333-15-P